CONSUMER PRODUCT SAFETY COMMISSION

Sunshine Act Meeting Notice

TIME AND DATE: Wednesday, May 8, 2019, 10:00 a.m.-11:00 p.m.

PLACE: Hearing Room 420, Bethesda Towers, 4330 East West Highway, Bethesda, MD.

STATUS: Commission Meeting—Open to the Public.

Matter To Be Considered: Briefing Matter: Fiscal Year 2019 Mid-Year Review.

A live webcast of the Meeting can be viewed at https://www.cpsc.gov/live.

CONTACT PERSON FOR MORE INFORMATION: Alberta Mills, Office of the Secretariat, Office of the General Counsel, U.S. Consumer Product Safety Commission, 4330 East West Highway, Bethesda, MD 20814, (301) 504-7923.

Dated: May 1, 2019.
Alberta E. Mills,
Secretary.

[FR Doc. 2019-09392 Filed 5-3-19; 11:15 am]

BILLING CODE 6355-01-P